DEPARTMENT OF EDUCATION

[CFDA No: 84.297]

The Native Hawaiian Curriculum Development, Teacher Training and Recruitment Program

AGENCY: Department of Education.

ACTION: Notice inviting applications for new awards for fiscal year (FY) 2001.

Purpose of Program: The Native Hawaiian Curriculum Development, Teacher Training and Recruitment Program supports—

(1) Curricula Development—the development of curricula to address the needs of Native Hawaiian students, particularly elementary and secondary students, which may include programs of instruction conducted in the Native Hawaiian language and mathematics and science curricula incorporating the relevant application of Native Hawaiian culture and traditions;

(2) Preteacher Training—the development and implementation of preservice teacher training to ensure that student teachers within the State, particularly those who are likely to be employed in schools with a high concentration of Native Hawaiian students, are prepared to better address the unique needs of Native Hawaiian students within the context of Native Hawaiian culture, language, and traditions;

(3) Inservice Teacher Training—the development and implementation of inservice teacher training to ensure that teachers, particularly those employed in schools with a high concentration of Native Hawaiian students, are prepared to better address the unique needs of Native Hawaiian students within the context of Native Hawaiian culture, language, and traditions; and

(4) Teacher Recruitment—the development and implementation of teacher recruitment programs to enhance teacher recruitment within communities with a high concentration of Native Hawaiian students and to increase the numbers of teachers who are of Native Hawaiian ancestry.

Consistent with these statutory purposes, the Secretary has established absolute priorities that will govern the distribution of funds under the program.

Eligible Applicants: Native Hawaiian educational organizations or educational entities with experience in developing or operating Native Hawaiian programs or programs of instruction conducted in the Native Hawaiian language.

Deadline for Transmittal of Applications: August 24, 2001.

Deadline for Intergovernmental Review: August 6, 2001.

Available Funds: Approximately $1,400,000. Of this amount, approximately $900,000 will be used to award grants that meet Absolute Priority 1 (aquaculture, prisoner education initiatives, waste management innovation, computer literacy, Big Island astronomy, or indigenous health programs); approximately $500,000 will be used to award a grant that meets Absolute Priority 2 (Native Hawaiian language revitalization).

Estimated Number of Awards: Three awards under Absolute Priority 1 and one award under Absolute Priority 2.

Estimated Average Size of Awards: Approximately $300,000 for the awards granted under Absolute Priority 1; approximately $500,000 for the award granted under Absolute Priority 2.

Note: These estimates are projections for the guidance of potential applicants. The Department is not bound by any estimates in this notice.

Project Period: Up to 36 months.

Applicable Regulations: The Education Department General Administrative Regulations (EDGAR) in 34 CFR Parts 74, 75, 77, 79, 81, 82, 85, 86 97, 98, and 99.

Absolute Priorities: The Secretary has published elsewhere in this issue of the Federal Register a notice of final priorities, which establishes absolute priorities in the following areas under the Curriculum Development, Teacher Training and Recruitment Program:

Absolute priority 1—The project focuses entirely on activities in one or more of the following areas—(a) aquaculture, (b) prisoner education initiatives, (c) waste management innovation, (d) computer literacy, (e) Big Island astronomy, and (f) indigenous health programs.

Absolute priority 2—The project focuses entirely on Native Hawaiian language revitalization activities, including K-12 language immersion programs, preservice and inservice teacher training programs, and programs designed to increase the number of Native Hawaiian teachers.

Under 34 CFR 75.105(c)(3) and the Native Hawaiian Education Act, the Secretary will fund under this competition only applicants that meet either of the absolute priorities.

Statutory Priorities: In accordance with section 9209(b) of the Elementary and Secondary Education Act, the Secretary gives priority to awarding grants for activities that —

(1) Focus on the needs of at-risk youth; or

(2) Employ a program of instruction conducted in the Native Hawaiian language.

These statutory priorities are embedded in the selection criteria for this competition.

Selection Criteria: The Secretary will use the following selection criteria in 34 CFR 75.210 to evaluate applications under this competition. (The specific selection criteria and factors that will be used in evaluating applications are detailed in the application package). The maximum score for all of the selection criteria is 100 points.

The maximum points for each criterion is as follows:

(a) Significance—15 points

(b) Quality of Project Design—35 points

(c) Quality of Project Personnel—10 points

(d) Adequacy of Resources—5 points

(e) Quality of Management Plan—15 points

(f) Quality of the Project Evaluation—20 points

For Applications and Information Contact: Mrs. Lynn Thomas, (202) 260-1541, U.S. Department of Education, 400 Maryland Avenue, SW., FOB6, Room 3C124, Mail Stop 6140, Washington, DC 20202. The e-mail address for Mrs. Thomas is: lynn.thomas@ed.gov

Individuals who use a telecommunications device for the deaf (TDD) may call the Federal Information Relay Service (FIRS) at 1-800-877-8339.

Individuals with disabilities may obtain this document in an alternative format (e.g., Braille, large print, audiotape, or computer diskette) on request to the contact person listed.

Individuals with disabilities may obtain a copy of the application package in an alternative format, also, by contacting that person. However, the Department is not able to reproduce in an alternate format the standard forms included in the application package.

Electronic Access to This Document

You may view this document, as well as all other Department of Education documents published in the Federal Register, in text or Adobe Portable Document Format (PDF) on the Internet at the following site: www.ed.gov/legislation/FedRegister

To use PDF you must have Adobe Acrobat Reader which is available free at this site. If you have any questions about using PDF, call the U.S. Government Printing Office (GPO); toll free, at 1-888-293-6498; or in the Washington, DC area at (202) 512-1530.

Note: The official version of this document is the document published in the Federal Register. Free Internet access to the official edition of the Federal Register and the Code of Federal Domestic Regulations is available on GPO Access at: http://www.access.gpo.gov/nara/index.html

Program Authority: 20 U.S.C. 7909.

Dated: July 20, 2001.
Thomas M. Corwin,
Acting Deputy Assistant Secretary for Elementary and Secondary Education.

[FR Doc. 01-18657 Filed 7-24-01; 8:45 am]

BILLING CODE 4000-01-P